NUCLEAR REGULATORY COMMISSION

[Docket No. 52-042; ASLBP No. 11-908-01-ESP-BD01]

Exelon Nuclear Texas Holdings, LLC; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

Exelon Nuclear Texas Holdings, LLC (Victoria County Station Site)

This proceeding concerns the application for an early site permit filed by Exelon Nuclear Texas Holdings, LLC pursuant to Subpart A of 10 CFR part 52 for the Victoria County Station Site, to be located in Victoria County, Texas. A petition to intervene has been filed by Texans for a Sound Energy Policy in response to a November 23, 2010 Notice of Hearing and Opportunity to Petition for Leave to Intervene (75 FR 71,467).

The Board is comprised of the following administrative judges:

Michael M. Gibson, Chair, Atomic Safety and Licensing Board Panel, U.S. Nuclear Regulatory Commission, Washington, DC 20555-0001.

Dr. Anthony J. Baratta, Atomic Safety and Licensing Board Panel, U.S. Nuclear Regulatory Commission, Washington, DC 20555-0001.

Dr. Mark O. Barnett, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 2nd day of February 2011.
E. Roy Hawkens,
Chief Administrative Judge, Atomic Safety and Licensing Board Panel.

[FR Doc. 2011-2742 Filed 2-7-11; 8:45 am]

BILLING CODE 7590-01-P